INTERNATIONAL TRADE COMMISSION

[USITC SE-14-001]

Sunshine Act Meeting

AGENCY HOLDING THE MEETING: United States International Trade Commission.

TIME AND DATE: January 16, 2014 at 9:30 a.m.

PLACE: Room 101, 500 E Street SW., Washington, DC 20436, Telephone: (202) 205-2000.

STATUS: Open to the public.

Matters To Be Considered

1. Agendas for future meetings: none.

2. Minutes.

3. Ratification List.

4. Vote in Inv. No. 731-TA-990 (Second Review)(Non-Malleable Cast Iron Pipe Firrings from China). The Commission is currently scheduled to complete and file its determination and views on or before January 29, 2014.

5. Vote in Inv. Nos. 701-TA-453 and 731-TA-1136-1137 (Review)(Sodium Nitrite from China and Germany). The Commission is currently scheduled to complete and file its determinations and views on or before January 29, 2014.

6. Outstanding action jackets: none.

In accordance with Commission policy, subject matter listed above, not disposed of at the scheduled meeting, may be carried over to the agenda of the following meeting.

By order of the Commission:
Dated: January 7, 2014.
William R. Bishop,
Supervisory Hearings and Information Officer.

[FR Doc. 2014-00215 Filed 1-7-14; 11:15 am]

BILLING CODE 7020-02-P